DEPARTMENT OF HEALTH AND HUMAN SERVICES

National Institutes of Health

National Institute on Deafness and Other Communication Disorders; Amended Notice of Meeting

Notice is hereby given of a change in the meeting of the Communication Disorders Review Committee, which was published in the Federal Register on May 01, 2023, FR DOC 2023-09130, 88 FR 26579.

This notice is being amended to change the meeting location from Embassy Suites at Chevy Chase Pavilion, 4300 Military Road NW, Washington, DC 20015 to Canopy by Hilton, 940 Rose Avenue, North Bethesda, MD 20852. The meeting is closed to the public.

Dated: June 5, 2023.
Victoria E. Townsend,
Program Analyst, Office of Federal Advisory Committee Policy.

[FR Doc. 2023-12326 Filed 6-8-23; 8:45 am]

BILLING CODE 4140-01-P